DEPARTMENT OF AGRICULTURE

Forest Service

Couverden Timber Sale Project

AGENCY: Forest Service, USDA.

ACTiON: Notice of intent to prepare an environmental impact statement.

SUMMARY: The Department of Agriculture, Forest Service, will prepare an Environmental Impact Statement (EIS) on a proposal to harvest timber for the Couverden Timber Sale(s) project on the south end of the Chilkat Peninsula north of Icy Strait and west of Lynn Canal on the Juneau Ranger District, Tongass National Forest. The proposed action provides for: (1) Timber harvest on approximately 1500 acres of forested land resulting in the production of an estimated 25 million board feet of sawlog and utility timber volume, (2) construction of approximately 5 miles of new specified road and 3 miles of temporary road, and (3) reconstruction of 19 miles of existing specified road. The Record of Decision will disclose how the Forest Service allocates timber harvest in the project area using the existing transportation infrastructure including existing roads and the permitted log transfer facility known as Homeshore LTF.

DATES: A public mailing that outlines the project timeline and public involvement opportunities is planned for distribution in Summer 2002. Individuals who want to receive this mailing should contact us within 30 days of the publication of this NOI. To be most useful, comments concerning the scope of this project should be received by September 15, 2002. The Draft Environmental Impact Statement is expected in Winter 2003 and will begin a 45-day public comment period. The Final Environmental Impact Statement and Record of Decision are expected Fall 2004.

ADDRESSES: Please send written comments to: District Ranger, Juneau Ranger District, ATTN: Couverden EIS, 8465 Old Dairy Road, Juneau, AK 99801.

FOR FURTHER INFORMATION CONTACT: Stan McCoy, Project Team Leader, telephone (907) 790-7431 or Dave Carr, Timber Management Assistant, telephone (907) 790-7402. Juneau Ranger District, 8465 Old Dairy Road, Juneau, AK 99801.

SUPPLEMENTARY INFORMATION:

Background

The proposed timber sale is located about 30 air miles west of Juneau, Alaska, 20 air miles southeast of Gustavus, Alaska and 10 air miles northeast of Hoonah, Alaska on the south end of the Chilkat Peninsula north of Icy Strait and west of Lynn Canal. The project is within townships 41 and 42 south, Ranges 61, 62 and 63 west, Copper River Meridian. The Juneau Ranger District of the Tongass National Forest, Juneau, Alaska, administers the project area. The project area contains Value Comparison Units 1170, 1180, 1190, and 1200 as designated by Tongass Land and Resource Management Plan. The project area includes approximately 66,486 acres. It includes portions of Homeshore, Humpy, and Swanson river drainages within the developed timber management land use designation. The project area includes one medium old growth reserve as designated in Tongass Land and Resource Management Plan. Another medium old growth reserve is located north of the project area near the community of Excursion Inlet. A Forest Plan amendment may be required to modify the old growth reserve boundaries associated with this project. Inventoried roadless area #304, Chilkat-West Lynn Canal, lies north and east of the project area and encompasses 198,525 acres. This Inventoried roadless area is currently managed for semi-remote recreation and old growth habitat. The proposed action does not include timber harvest or road construction in the adjacent inventoried roadless area.

The purpose and need for the Couverden Project is: (1) To implement the direction contained in the 1997 Tongass Land Management Plan and the 1997 ROD, including goals, objectives, management prescriptions, and standards and guidelines; (2) to maintain wood production from suitable timber lands, providing a continuous supply of wood to meet societies needs; (3) to help provide a stable supply of timber from the Tongass National Forest which meets existing and potential market demand and is consistent with sound multiple use and sustained yield objectives; and (4) to help meet the desired future condition of the landscape as described by the 1997 Tongass Land and Resource Management Plan.

Public Participation

Opportunities for the public to participate in the development of the Couverden Timber Sale Environmental Impact Statement will be provided throughout the process. The Forest Service will use a combination of methods to engage and involve the public, including public mailings, postings on the Tongass National Forest internet web page, public meetings and the news media. The comment period on the Draft Environmental Impact statement will be a minimum of 45 days from the date the Environmental Protection Agency (EPA) publishes the notice of availability in the Federal Register. The Draft EIS is projected to be filed with the EPA in Fall 2004.

The Forest Service believes it is important to give reviewers notice of several court rulings to public participation in the environmental review process. First, reviewers of draft environmental impact statements must structure their participation in the environmental review of the proposal so that it is meaningful and alerts an agency to the reviewer's position and contentions. Vermont Yankee Nuclear Power Corp. v. NRDC, 435 U.S. 519, 553, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are received by the Forest Service at a time when it can meaningfully consider and respond to them in the final environmental impact statement.

To assist the Forest Service in identifying and considering issues and concerns with regard to the proposed action, comments during scoping and on the Draft Supplemental EIS should be as specific as possible. It is helpful if comments refer to specific pages or chapters of the document. Comments may also address the adequacy of the Draft Supplemental EIS or the merits of the alternatives formulated and discussed. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR parts 215. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within seven days.

Permits: required for implementation include the following.

1. U.S. Army Corps of Engineers

• Approval of discharge of dredged or fill material into the waters of the United States under Section 404 of the Clean Water Act;

• Approval of the construction of structures or work in navigable waters of the United States under Section 10 of the Rivers and Harbors Act of 1899;

2. Environmental Protection Agency

• National Pollutant Discharge Elimination System (402) Permit;

3. State of Alaska, Department of Natural Resources

• Tideland Permit and Lease or Easement;

4. State of Alaska, Department of Environmental Conservation

• Solid Waste Disposal Permit;

• Certification of Compliance with Alaska Water Quality Standards.

Responsible Official

The Forest Supervisor, Tongass National Forest, Federal Building, Ketchikan, Alaska 99901, is the responsible official. The responsible official will consider the comments, responses, disclosure of environmental consequences, and applicable laws, regulations, and policies in making the decision, and state the rationale for the chosen alternative in the Record of Decision.

Dated: July 16, 2002.
Thomas Puchlerz,
Forest Supervisor.

[FR Doc. 02-18514 Filed 7-22-02; 8:45 am]

BILLING CODE 3410-11-M